FEDERAL COMMUNICATIONS COMMISSION

47 CFR Part 73

[MB Docket No. 22-150; RM-11926; DA 22-403; FRS 82844]

Television Broadcasting Services Augusta, Maine

AGENCY: Federal Communications Commission.

ACTION: Proposed rule.

SUMMARY: The Federal Communications Commission (Commission or FCC) has before it a petition for rulemaking filed by Maine Public Broadcasting Corporation (Petitioner), the licensee of WCBB, channel *10, Augusta, Maine. The Petitioner requests the substitution of channel *20 for channel *10 at Augusta in the Table of Allotments.

DATES: Comments must be filed on or before May 31, 2022 and reply comments on or before June 13, 2022.

ADDRESSES: Federal Communications Commission, Office of the Secretary, 45 L Street NE, Washington, DC 20554. In addition to filing comments with the FCC, interested parties should serve counsel for the Petitioner as follows: Derek Teslik, Esq., Gray Miller Persh, 2233 Wisconsin Avenue NW, Washington, DC 20007.

FOR FURTHER INFORMATION CONTACT: Joyce Bernstein, Media Bureau, at (202) 418-1647; or Joyce.Bernstein@fcc.gov.

SUPPLEMENTARY INFORMATION: In support, the Petitioner states that the proposed channel substitution would serve the public interest, since WCBB is one of only two full power stations in the market to broadcast on a VHF channel, and moving the Station to a UHF channel would improve the community's access to WCBB's Public Broadcasting Service (PBS) and other public television programming by improving indoor reception. According to Petitioner, although the proposed channel *20 facilities will result in a slight reduction in the Station's predicted population served, much of the predicted loss area is located outside the State of Maine and the vast majority is served by Petitioner's stations WMEB-TV, Orono, Maine, and WMEA-TV, Biddeford, Maine, or by other PBS member stations, WENH-TV, Durham, New Hampshire, WLED-TV, Littleton, New Hampshire, and WVTB, St. Johnsbury, Vermont. Petitioner further states that once terrain-limitations are factored into the analysis, the new loss area that would be created by the proposed substitution would contain 144 persons, which it asserts is well below the level the Commission considers de minimis in the context of considering impermissible loss of service. Since the proposed facility is located within the Canadian coordination zone, concurrence from the Canadian government must be obtained for this allotment.

This is a synopsis of the Commission's Notice of Proposed Rulemaking, MB Docket No. 22-150; RM-11926; DA 22-403, adopted April 13, 2022, and released April 13, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a). See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments under Maine by changing *10 to *20 in the entry for Augusta to read as follows:

§ 73.622 Digital television table of allotments.

* * * * *

(j) * * *

Community | Channel No.
* * * * *
MAINE
Augusta | * 20
* * * * *

[FR Doc. 2022-08607 Filed 4-27-22; 8:45 am]

BILLING CODE 6712-01-P